DEPARTMENT OF COMMERCE

Census Bureau

Agency Information Collection Activities; Submission to the Office of Management and Budget (OMB) for Review and Approval; Comment Request; Business Pulse Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new Business Pulse Survey prior to the submission of the information collection request (ICR) to OMB for approval.

DATES: To ensure consideration, comments regarding this proposed information collection must be received on or before January 10, 2022.

ADDRESSES: Interested persons are invited to submit written comments by email to Thomas.J.Smith@census.gov. Please reference Business Pulse Survey in the subject line of your comments. You may also submit comments, identified by Docket Number USCB-2021-0027, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Stephanie Studds, Chief, Economic Indicator Division, 301-763-2633, and stephanie.lee.studds@census.gov.

SUPPLEMENTARY INFORMATION:

I. Abstract

The U.S. Census Bureau plans to request a 3-year approval from the Office of Management and Budget (OMB) for a new survey, the Business Pulse Survey. During the Coronavirus pandemic, the Census Bureau launched new weekly and monthly programs to measure the pandemic's impact on the economy. The Census Bureau was commended by policy makers, media, academia, and other stakeholders on its timeliness and rapid response to their data needs to understand the impact of the pandemic on the economy. The Census Bureau has a need to collect and publish economic baseline data on a frequent, ongoing basis.

The Business Pulse Survey will be a new experimental survey with bi-weekly data collection and publication. This continuous near real time data publication will provide a baseline of the U.S. economy and will measure change as a result of current and future economic shocks. The ongoing nature of the Business Pulse Survey is in response to stakeholder feedback on the Small Business Pulse Survey (SBPS), which was that economic baseline or `norms' data would have been helpful to have in comparison to the SBPS data on pandemic impact.

The Business Pulse Survey will evolve and progress to its full desired scope over time, in stages or phases. The Census Bureau plans to learn from the incremental progress of the Business Pulse Survey and make improvements to the survey as it matures. Initially, the Business Pulse Survey will be an expansion of the Small Business Pulse Survey (OMB Number: 0607-1014). The SBPS was restricted to small businesses with 1-499 employees and included only a single island territory, Puerto Rico. The Business Pulse Survey's initial sample criteria will include all single unit employer businesses in the U.S. and U.S. Island Areas. At full scope, the Business Pulse Survey will allow for data collection from businesses across most non-farm sectors of the U.S. economy, while producing statistics on employer and non-employer businesses across all employer size classes, as well as geographically detailed data on the fifty U.S. states, Washington DC, and the U.S. Island Areas.

The Business Pulse Survey will collect the following high-level topics:

• Overall current business performance or business climate

• Change in operating revenues/sales/receipts

• Change in employment

• Change in hours of paid employees

• Expectations: Future performance

Business Pulse Survey data would be collected in near-real time and disseminated as experimental products. Business Pulse Survey data will be experimental with the goal of meeting Census Bureau quality standards for regularly occurring, non-experimental statistics.

II. Method of Collection

The data will be collected by paper or electronic instruments, depending on whether respondent email is available.

III. Data

OMB Control Number: 0607-XXXX.

Form Number(s): None.

Type of Review: Regular submission, new information collection request.

Affected Public: Business or other for-profit organizations.

Estimated Number of Respondents: 45,000 responses/bi-weekly.

Estimated Time per Response: 6 minutes.

Estimated Total Annual Burden Hours: 117,000.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C., Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-24502 Filed 11-8-21; 8:45 am]

BILLING CODE 3510-07-P